DEPARTMENT OF HEALTH AND HUMAN SERVICES

Centers for Disease Control and Prevention

[30 Day-13-13ZZ]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC 20503 or by fax to (202) 395-5806. Written comments should be received within 30 days of this notice.

Proposed Project

Evaluation of the SAMHSA PDMP Electronic Health Record (EHR) Integration and Interoperability Expansion Program—New—National Center for Injury Prevention and Control (NCIPC), Centers for Disease Control and Prevention (CDC).

Background and Brief Description

In 2009, drug overdose deaths became the leading cause of injury death in the United States (U.S.), exceeding motor vehicle traffic crash deaths for the first time, a trend that continued in 2010. Prescription drugs, particularly opioid pain relievers, have been identified as the main driver of this increase. The number of overdose deaths per year involving opioid pain relievers increased more than four-fold from 1999 to 2010 (from 4,030 to 16,651), outnumbering overdose deaths involving all illicit drugs combined. Morbidity associated with opioid pain reliever abuse increased in parallel. The rate of emergency department visits associated with the misuse or abuse use of opioid pain relievers increased 153% from 2004 to 2011, while rates for illicit drugs remained largely stable.

This project involves an evaluation of the Substance Abuse and Mental Health Services (SAMHSA) Prescription Drug Monitoring Program (PDMP) Electronic Health Record (EHR) Integration and Interoperability Expansion Program (PEHRIIE) which has funded projects in nine states via cooperative agreements.

Under these cooperative agreements, the Centers for Disease Control and Prevention (CDC) is responsible for conducting a comprehensive process and outcomes evaluation of the PEHRIIE program. The primary goals of the qualitative evaluation component of this work are:

1. To understand the processes, challenges, and successes in implementing and sustaining integration of PDMP data with Health Information Technology (HIT) systems and interoperability of PDMP systems across states; and

2. To understand the experiences of clinical end users with the systems being upgraded under the PEHRIIE program and to capture their recommendations, if any, for how the goals of the PEHRIIE could have been better accomplished.

In order to achieve these evaluation goals, CDC requests OMB approval for 24 months in order for the CDC evaluation team to conduct qualitative interviews with those individuals involved in the planning and implementation of the PEHRIIE projects (i.e., key project staff and stakeholders) as well as with the clinical end users (i.e., prescribers and pharmacists) of the PDMPs in the states where these projects are taking place. Through this evaluation, CDC will better understand the impact of PDMP integration and interoperability in the funded states.

The total annual estimated burden hours for the planned qualitative information collection are 119 hours. Total burden time includes the time to conduct interviews with key project staff/stakeholders and clinical end users, and the time spent by recruiters at the PEHRIIE implementation sites to identify potential clinical end user interviewees.

Staff/stakeholder interviews will be conducted with key project staff members/stakeholders across the nine PEHRIIE-funded states. Interviews will also be conducted with key project staff/stakeholders representing companies working with multiples states involved in the PEHRIIE program.

End user interviews will be conducted at implementation sites distributed across all nine PEHRIIE states. The CDC will work with one recruiter per implementation site to complete these tasks.

There are no costs to respondents other than their time. The total estimated annual burden hours are 119 hours.

Estimated Annualized Burden Hours
Type of respondent | Form name | Number of respondents | Number of responses per respondent | Average burden per response (in hrs)
Key Project Staff/Stakeholders | Key Project Staff/Stakeholders Interview Guide | 53 | 1 | 45/60
Clinical End Users | End Users Interview Guide | 59 | 1 | 1
Clinical End User Recruiters | N/A | 20 | 1 | 1

Kimberly S. Lane,
Deputy Director, Office of Science Integrity, Office of the Associate Director for Science, Office of the Director, Centers for Disease Control and Prevention.

[FR Doc. 2013-27083 Filed 11-12-13; 8:45 am]

BILLING CODE 4163-18-P